DEPARTMENT OF COMMERCE

National Oceanic and Atmospheric Administration

DEPARTMENT OF THE INTERIOR

Fish and Wildlife Service

50 CFR Part 404

[Docket No. 080227317-8741-01]

RIN 0648-AW44

Papahanaumokuakea Marine National Monument Proclamation Provisions

AGENCIES: National Oceanic and Atmospheric Administration (NOAA), Department of Commerce (DOC); United States Fish and Wildlife Service (USFWS), Department of the Interior (DOI).

ACTION: Proposed rule; request for public comments.

SUMMARY: NOAA and the USFWS are proposing regulations to establish a ship reporting system for the Papahanaumokuakea Marine National Monument. This action would implement measures adopted by the International Maritime Organization requiring notification by ships passing through the Monument without interruption. A draft environmental assessment has been prepared for this proposed action pursuant to the National Environmental Policy Act. A copy of the draft environmental assessment is available for public review at http://hawaiireef.noaa.gov/ and comment concurrently with this proposed rule.

DATES: Comments on the proposed rule and the draft environmental assessment will be accepted if received on or before August 6, 2008.

ADDRESSES: Comments may be submitted by any of the following methods:

• Federal e Rulemaking Portal: http://www.regulations.gov. Submit electronic comments via the Federal e Rulemaking Portal rather than by e-mail;

• Mail: T. Aulani Wilhelm, Monument Superintendent (NOAA); 6600 Kalanianaole Highway, 300, Honolulu, HI 96825.

Copies of the draft environmental assessment may be viewed and downloaded at http://hawaiireef.noaa.gov/.

Paperwork burden: Submit written comments regarding the burden-hour estimates or other aspects of the information collection requirements contained in this proposed rule by e-mail to Diana Hynek at dHynek@noaa.gov.

FOR FURTHER INFORMATION CONTACT: T. Aulani Wilhelm, Monument Superintendent (NOAA); 6600 Kalanianaole Highway, 300, Honolulu, HI 96825; (808) 397-2657.

SUPPLEMENTARY INFORMATION:

I. Statutory and Regulatory Background

On June 15, 2006, President Bush established the Northwestern Hawaiian Islands Marine National Monument (Monument) by issuing Presidential Proclamation 8031 (Proclamation; 71 FR 36443, June 26, 2006) under the authority of the Antiquities Act (Act) (16 U.S.C. 431). The Proclamation reserves all lands and interests in lands owned or controlled by the Government of the United States in the Northwestern Hawaiian Islands (NWHI), including emergent and submerged lands and waters, out to a distance of approximately 50 nautical miles (nmi) from the islands. The outer boundary of the Monument is approximately 100 nmi wide and extends approximately 1200 nmi around coral islands, seamounts, banks, and shoals. The area includes the Northwestern Hawaiian Islands Coral Reef Ecosystem Reserve, the Midway Atoll National Wildlife Refuge/Battle of Midway National Memorial, and the Hawaiian Islands National Wildlife Refuge. The Monument was renamed the Papahanaumokuakea Marine National Monument by Proclamation 8112 (72 FR 10029, February 28, 2007).

The Proclamation provides that the Secretary of Commerce, through NOAA, has primary responsibility regarding the management of the marine areas of the Monument, in consultation with the Secretary of the Interior. The Secretary of the Interior, through the USFWS, has sole responsibility for management of the areas of the Monument that overlay the Midway Atoll National Wildlife Refuge, the Battle of Midway National Memorial, and the Hawaiian Islands National Wildlife Refuge, in consultation with the Secretary of Commerce. Further, the Proclamation provides that nothing in the Proclamation diminishes or enlarges the jurisdiction of the State of Hawaii. The Monument includes state waters, including the Northwestern Hawaiian Islands State Marine Refuge and State Seabird Sanctuary at Kure Atoll. The State currently holds the submerged and ceded lands of the NWHI in trust. This public trust is overseen by the Office of Hawaiian Affairs through an amendment to the Constitution of the State of Hawaii. The State of Hawaii has primary responsibility for managing the State waters of the Monument.

In 2006 NOAA and USFWS published joint regulations codifying the provisions of the Proclamation (71 FR 51134, August 29, 2006). With certain exceptions, the Proclamation and the joint regulations restrict access to the Monument to persons who have been issued Monument permits. Vessels that do not have permits cannot enter the Monument except for uninterrupted passage through the Monument and notice must be provided to NOAA by telephone, fax, or e-mail not less than 72 hours and not more than one month prior to passing through the Monument. Notice must also be provided not more than twelve hours after the vessel has exited the Monument. All of the terms of the Proclamation and the regulations are applied in accordance with international law.

The Proclamation directed the Secretary of State, in consultation with the Secretaries of Commerce and the Interior, to take appropriate action to enter into negotiations with other governments to make necessary arrangements for the protection of the Monument and to promote the purposes for which it was established. The Proclamation further directed the Secretary of State to seek the cooperation of other governments and international organizations in furtherance of the purposes of the Proclamation and consistent with applicable regional and multilateral arrangements for the protection and management of special marine areas.

In April 2007 and in accordance with the Proclamation, the United States proposed to the International Maritime Organization (IMO), a specialized agency of the United Nations, that the Monument be designated as a Particularly Sensitive Sea Area (PSSA) to protect the attributes of the fragile and integrated coral reef ecosystem from potential hazards associated with international shipping activities. The U.S. noted in its proposal that the burden on international shipping by the proposed PSSA and its associated protective measures would be minimal while its objectives—increased maritime safety, protection of the fragile environment, preservation of cultural resources and areas of cultural importance significant to Native Hawaiians, as well as facilitation of the ability to respond to developing maritime emergencies—would be significantly furthered. PSSA designation had been granted previously to only ten marine areas globally, including the marine areas around the Florida Keys, the Great Barrier Reef, and the Galapagos.

On April 3, 2008, the IMO designated the Monument as a PSSA. As part of the PSSA designation process, the IMO adopted U.S. proposals for associated protective measures consisting of (1) expanding and consolidating the six existing recommendatory Areas To Be Avoided (ATBA's) in the Monument into four larger areas and enlarging the class of vessels to which they apply; and (2) establishing a ship reporting system for vessels transiting the Monument, which is mandatory for ships 300 gross tons or greater that are entering or departing a U.S. port or place and recommended for other ships. The system requires that ships notify the U.S. shore-based authority (i.e., the U.S. Coast Guard; NOAA will be receiving all messages associated with this program on behalf of the Coast Guard) at the time they begin transiting the reporting area and again when they exit. Notification is made by e-mail through the Inmarsat-C system or other satellite communication system. It is estimated that almost all commercial vessel traffic will be able to report via Inmarsat-C.

The PSSA and associated protective measures were adopted to provide additional protection to the exceptional natural, cultural and historic resources in the Monument. Requiring vessels to notify NOAA upon entering the reporting area will help make the operators of these vessels aware that they are traveling through a fragile area with potential navigational hazards such as the extensive coral reefs found in many shallow areas of the Monument. The PSSA is now in effect, and the IMO has provided for an effective date for the associated protective measures of May 1, 2008.

NOAA and USFWS are establishing the infrastructure that will be required to maintain an international ship reporting system and to ensure that information regarding PSSA designation will be incorporated into nautical charts and other information sources. This proposed rule would implement the mandatory ship reporting system as adopted by IMO, establish the reporting area using the IMO boundary coordinates, and publish the coordinates of the four ATBA's.

II. Summary of the Proposed Regulations

These regulations would apply to vessels that do not have permits to enter the Monument and that would pass through the Monument without interruption. The regulations propose the following actions:

(1) Modify the current notification requirements (at 50 CFR 404.4) for passing through the Monument without interruption and add several new associated terms and definitions (at § 404.3);

(2) establish a reporting area around the Monument, extending outward ten nautical miles from the Monument boundary but excluding the ATBA's within the Monument;

(3) describe the categories of vessels to which the reporting requirement would apply;

(4) specify the type of information regarding the vessel, its location, etc. that would be required in the e-mail to NOAA and would be sent in a reporting format that is consistent with the reporting system adopted by IMO;

(5) allow for vessels that do not have e-mail capability to continue compliance with the current prior notification requirements;

(6) recommend voluntary participation in the reporting system for all other vessels that are not required to notify NOAA; and

(7) publish the revised boundaries of the four voluntary ATBA's.

Each of these elements of the proposed regulations is described below.

A. Modification of Existing Notification Requirements

Current Monument regulations at 50 CFR 404.4 prohibit entry into the Monument except in certain situations. One of the exceptions is for vessels passing through the Monument without interruption. Those vessels, however, are currently required to provide notice prior to entering and after leaving the Monument. Notification of entry must be provided at least 72 hours, but no longer than 1 month, prior to the entry date. Notification of departure from the Monument must be provided within 12 hours of leaving. Notification may be made by e-mail, telephone, or fax and must include the following information: position when making the report; vessel name and IMO identification number; name, address, and telephone number of owner and operator; United States Coast Guard documentation, state license, or registration number; home port; intended and actual route through the Monument; general categories of any hazardous cargo on board; and length of vessel and propulsion type (e.g., motor or sail).

The proposed regulations would replace the current notification requirements for vessels that have e-mail capability. Vessels without e-mail capability would continue to provide notification as required currently but the type of information to be provided would be modified by these regulations as described below.

The following terms would be added to the definitions in the regulations at 50 CFR 404.3 to facilitate implementation of the proposed ship reporting requirements: “Areas to be avoided”; “Categories of hazardous cargoes”; “IMO”; and “Reporting area.” The definitions to these terms are contained in the text of the proposed regulations.

B. Reporting Area

The proposed regulations would create a reporting area extending ten miles out and entirely around the Monument boundary. The coordinates of the proposed area are set forth in Appendix D of the proposed regulations and are the same as the coordinates that were adopted by IMO when it accepted the PSSA in principle and adopted the associated protective measures for the PSSA in 2007. Certain categories of vessels (described below) that intend to pass through the Monument without interruption would be required to e-mail certain information at the time they cross the reporting area boundary and again when they exit the reporting area after having passed through the Monument.

The reporting area would not include the ATBA's within the Monument. As such, vessels that pass through an ATBA while passing through the Monument would be required to notify NOAA at the time they exit the reporting area and enter the ATBA, and again when they exit the ATBA and re-enter the reporting area.

There are three large areas of the Monument (within the reporting area) that are not within the IMO-designated ATBA's. These breaks between the four ATBA's allow for primarily north-south passage through the Monument. From west to east, these areas are in the following locations and are shown in Figure 1: between the ATBA's extending around Pearl and Hermes Atoll and Lisianski Island; between the ATBA's around Maro Reef and Gardner Pinnacles; and between the ATBA's around Mokumanamana (Necker Island) and Nihoa Island. It is anticipated that vessels will navigate through the Monument via these areas. Vessels passing through the Monument in these areas would only send e-mail notification upon entering the reporting area and again upon leaving it.

Figure 1. Papahanaumokuakea Marine National Monument Particularly Sensitive Sea Areas, Ship Reporting Areas, and Areas to be Avoided

C. Vessels That Would Be Required To Provide Notification

All vessels of the United States—regardless of size—would be subject to the proposed reporting requirements. All foreign vessels greater than 300 gross tons and that are either going to or coming from a U.S. port or place would also be required to participate in the ship reporting system. Foreign vessels of any size that are heading to or coming from a U.S. port or place would also be required to provide e-mail notification if they experience an emergency while crossing through the reporting area. Although e-mail capability is now routine on vessels greater than 300 gross tons and is also widely used by many smaller vessels, vessels of the United States less than 300 gross tons that do not have e-mail capability would remain subject to the advanced notice reporting requirements currently in effect. These vessels would continue to be required to follow the current reporting process: provide notice by telephone, fax, or e-mail not less than 72 hours but not more than one month prior to entering the Monument for uninterrupted passage and to provide notification of departing the Monument within 12 hours of leaving.

Vessels would not be required to provide notification if they operate in the reporting area but remain outside of the Monument, such as fishing vessels fishing outside the Monument boundary. However, if the operator of a vessel within the reporting area decides to cross uninterrupted through the Monument all of the notification requirements would then apply. In no case could the vessel lawfully pass through the Monument until notification had been provided, consistent with these proposed regulations.

D. Specific Information and Reporting Format That Would Be Required for Entry and Exit Notifications by Vessels With E-mail Capability

The information that each vessel would be required to submit and the format in which it would be submitted are shown in Appendix E to the proposed regulations. The information that would be provided upon entering the reporting area and the reporting format are based on and consistent with the reporting requirements adopted by IMO and would include: Vessel identification information (i.e., name, call sign, flag, IMO identification number); date and time of entry; position; true course; speed in knots and tenths; destination and estimated time of arrival; intended route through the reporting area; vessel draft; categories of hazardous cargoes on board; any vessel defects or deficiencies that restrict maneuverability or impair normal navigation; any pollution incident or goods lost overboard within the Monument, reporting area, or the U.S. EEZ; contact information for the vessel's agent or owner; vessel size (length overall, gross tonnage) and type; and total number of persons on board. Information required when the vessel leaves the reporting area would include: Vessel identification information (i.e., name, call sign, flag, IMO identification number); date and time of exit; position; and any pollution incident or goods lost overboard within the Monument, reporting area, or the U.S. EEZ.

The system that is being established to receive the notifications would be based on Inmarsat-C and NOAA would assume the cost associated with Inmarsat-C transmissions to the e-mail address provided under this program. This rule would not require a vessel to install or use Inmarsat-C, but NOAA would not assume costs associated with e-mail transmissions sent through other satellite communications systems.

E. Specific Information and Reporting Format That Would Be Required for Entry and Exit Notifications by Vessels Without Onboard E-mail Capability

Vessels of the United States less than 300 gross tons that do not have onboard e-mail capability would be required to submit the following information not less than 72 hours but not more than one month prior to entering the Monument for uninterrupted passage: Vessel identification information (e.g., name, call sign, flag, IMO identification number); date and time of entry; position (as applicable); destination and estimated time of arrival; intended route through the Monument and the reporting area; vessel draft; categories of hazardous cargoes on board (as applicable); any vessel defects or deficiencies that restrict maneuverability or impair normal navigation; contact information for the vessel's agent or owner; vessel size (length overall, gross tonnage) and type; and total number of persons on board. Upon exiting the Monument these vessels would be required to provide the following information within 12 hours of leaving: Vessel identification information (e.g., name, call sign, flag, IMO identification number); date and time of exit; position; and any pollution incident or goods lost overboard within the Monument, reporting area, or the U.S. EEZ. This information could be submitted by nonvessel-based e-mail (e.g., from home or office), fax, or telephone. Once a vessel is equipped with an onboard e-mail system, however, it would be required to comply with the requirements for vessels with that capability, and the reporting format shown in Appendix E to the regulations would be required.

F. Voluntary Participation in the Ship Reporting System by All Other Vessels

Vessels that would not be required to participate in the ship reporting system are nevertheless strongly urged to participate on a voluntary basis. Participation would help make the operators of these vessels aware that they are traveling through a fragile area with potential navigational hazards such as the extensive coral reefs found in many shallow areas of the Monument. Voluntary participation would increase maritime safety, protection of the fragile environment, preservation of cultural resources and areas of cultural importance significant to Native Hawaiians. Participation would also facilitate the ability to respond to developing maritime emergencies.

G. Modification of the Areas To Be Avoided (ATBA's)

An ATBA is an area within which either navigation is particularly hazardous or it is exceptionally important to avoid casualties. As such, ATBA's should be avoided by all ships, or certain classes of ships. While ATBA's can be mandatory (i.e., vessels are required by applicable law to avoid and operate outside of the area) most are voluntary and vessels may travel through them. The IMO adopted six voluntary ATBA's in the Northwestern Hawaiian Islands in 1980. Part of the action taken in 2008 by the IMO was to enlarge the six original ATBA's so that they now connect in certain places resulting in four larger ATBA's. This proposed rule would publish the coordinates of these four ATBA's. The coordinates are attached to the proposed regulations as Appendix C. The ATBA's would not be part of the reporting area and vessels that enter any ATBA while passing through the Monument without interruption would be required to provide an exit notification upon entering the ATBA, an entry notification again upon reentering the reporting area, and a second exit notification when the vessel departed the reporting area and the Monument on the other side. Thus, transiting through the Monument via an ATBA would require four reports as compared with the two reports required for transiting the Monument between the ATBA's.

III. Classification

A. National Environmental Policy Act

A draft environmental assessment has been prepared to evaluate the proposed revisions to the reporting requirements. Copies are available at the address and Web site listed in the ADDRESSES section of this proposed rule. Responses to comments received on this proposed rule will be published in the final environmental assessment and preamble to the final rule.

B. Executive Order 12866: Regulatory Impact

This proposed rule has been determined to be not significant within the meaning of Executive Order 12866.

C. Executive Order 13132: Federalism Assessment

NOAA has concluded this regulatory action does not have federalism implications sufficient to warrant preparation of a federalism assessment under Executive Order 13132. Consistent with the intent of the Proclamation, however, the federal Co-Trustees will consult with the State of Hawaii, also a Monument Co-Trustee, on this matter.

D. Paperwork Reduction Act

This proposed rule would be part of a collection-of-information requirement that was approved by OMB and granted OMB control number 0648-0548.

The public reporting burden for entry and exit notification is expected to average 15 minutes per response. This public reporting burden includes the time for reviewing instructions, searching existing data sources, gathering and maintaining the data needed, and completing and reviewing the collection of information.

Public comment is sought regarding: Whether this collection of information is necessary for the proper performance of the functions of the agency, including whether the information shall have practical utility; the accuracy of the burden estimate; ways to enhance the quality, utility, and clarity of the information to be collected; and ways to minimize the burden of the collection of information, including through the use of automated collection techniques or other forms of information technology. Send comments on these or any other aspects of the collection of information to Diana Hynek, Departmental Paperwork Clearance Officer, Department of Commerce, Room 6625, 14th and Constitution Avenue, NW., Washington, DC 20230, or via e-mail at dHynek@noaa.gov.

Notwithstanding any other provision of the law, no person is required to respond to, nor shall any person be subject to a penalty for failure to comply with, a collection of information subject to the requirements of the PRA, unless that collection of information displays a currently valid OMB Control Number.

E. Regulatory Flexibility Act

The Chief Counsel for Regulation of the Department of Commerce certified to the Chief Counsel for Advocacy of the Small Business Administration (SBA) that this proposed rule, if adopted, would not have a significant economic impact on a substantial number of small entities.

The factual basis for this certification is as follows:

The proposed regulations would establish a ship reporting system for the Monument. When transiting the Monument, all U.S. vessels, all foreign-flag vessels 300 gross tons or greater that are going to or coming from a U.S. port or place, and all foreign-flag vessels of any size coming from a U.S. port or place and experiencing an emergency while crossing through the reporting area would be required to participate in the reporting system. Specific information would be required to be transmitted via e-mail to NOAA upon entry into and exit from the reporting area. Vessels without onboard e-mail capability would continue to provide notification as required by current Monument regulations at 50 CFR part 404, though the information provided would be essentially the same as required by these regulations.

The SBA establishes size standards for determining whether a U.S. entity is a small business. The size standards relevant to this proposed rulemaking are: finfish fishing (NAICS Code 114111): average annual receipts of $4.0 million or less; and deep sea freight transport (NAICS Code 483111): average employment of 500 employees or less. Approximately 120 U.S. fishing vessels are expected to be impacted by this rulemaking, and all are considered to be small entities. U.S. freight transport vessels are expected to be affected by this rulemaking, though none are considered to be small entities. All vessels without e-mail capability are considered to be small entities.

The cost of the proposed regulation is not expected to be significant. It is expected that vessels transiting the Monument would remain outside of the designated ATBA's to avoid navigational hazards in the ATBA's. For these vessels, two e-mails would be required for compliance with the proposed rule: One upon entering the reporting area and one upon exiting the reporting area. For those vessels that cross into the ATBA's, four e-mails would be required. Because the ATBA's are not part of the reporting system, the vessel would enter and exit the reporting area twice. The cost of sending an e-mail varies depending on the type of service, the provider rates and the length of the message but is estimated to be approximately $1.75 per entry report e-mail sent via Inmarsat-C. The exit report would cost approximately $0.50. It would take approximately 15 minutes or less to send each e-mail. Because NOAA would cover the monetary cost of e-mail transmissions using the Inmarsat-C system, this cost would not be accrued by any small entities. Entities using other e-mail systems, however, would bear the monetary cost of e-mail transmission in addition to the time cost. For those vessels without on-board e-mail capability, cost of compliance for notification prior to entry is expected to be the cost of a standard fax or e-mail charge, or would be free if the information is provided by telephone using the 1-800 number listed in the regulations. An exit notification made within 12 hours would require the use of a satellite telephone, the cost of which would be subject to rate variables. However, the content that would be conveyed is relatively brief and could be provided in approximately one minute.

Given the minimal cost of compliance with this rulemaking, the impact of this proposed rule would not be expected to be significant. As a result, a regulatory flexibility analysis is not required and none has been prepared.

IV. Request for Comments

NOAA and USFWS request comments on this proposed rule amending the regulations published on August 29, 2006 (71 FR 51134), particularly concerning the ship reporting system for the Papahanaumokuakea Marine National Monument.

List of Subjects in 50 CFR Part 404

Administrative practice and procedure, Coastal zone, Fish, Fisheries, Historic preservation, Intergovernmental relations, Marine resources, Monuments and memorials, Natural resources, Reporting and recordkeeping requirements, Wildlife, Wildlife refuges.

Dated: June 25, 2008.
Conrad C. Lautenbacher Jr.,
Vice Admiral, U.S. Navy (Ret.), Undersecretary of Commerce for Oceans and Atmosphere.
Lyle Laverty,
Assistant Secretary for Fish and Wildlife and Parks.

Accordingly, for the reasons set forth above, NOAA and USFWS propose amending part 404, title 50 of the Code of Federal Regulations as follows:

PART 404—[AMENDED]

1. The authority citation for part 404 continues to read as follows:

Authority: 16 U.S.C. 431 et seq.; 16 U.S.C. 460k-3; 16 U.S.C. 1801 et seq.; 16 U.S.C. 742f, 16 U.S.C. 742l, and 16 U.S.C. 668dd-ee; 16 U.S.C. 1361 et seq.; 16 U.S.C. 1531 et seq., Pub. L. No. 106-513, Sec. 6(g) (2000).

2. In § 404.3, definitions for “Areas to be avoided,” “Categories of hazardous cargoes,” “IMO,” and “Reporting area” are added alphabetically as follows:

§ 404.3 Definitions.

Areas to be avoided means the four designated areas that should be avoided by vessels that are conducting passage through the Monument without interruption. Appendix C sets forth the coordinates of these areas.

* * * * *

Categories of hazardous cargoes means goods classified in the International Maritime Dangerous Goods (IMDG) Code; substances classified in chapter 17 of the International Code for the Construction and Equipment of Ships Carrying Dangerous Chemicals in Bulk (IBC Code) and chapter 19 of the International Code for the Construction and Equipment of Ships Carrying Liquefied Gases in Bulk (IGC Code); oils as defined in MARPOL Annex I; noxious liquid substances as defined in MARPOL Annex II; harmful substances as defined in MARPOL Annex III; and radioactive materials specified in the Code for the Safe Carriage of the Irradiated Nuclear Fuel, Plutonium and High-Level Radioactive Wastes in Flasks on Board Ships (INF Code).

* * * * *

IMO means the International Maritime Organization.

* * * * *

Reporting area means the area within the coordinates set forth in Appendix D.

* * * * *

3. Revise § 404.4 to read as follows:

§ 404.4 Access to Monument.

(a) Entering the Monument is prohibited and thus unlawful except:

(1) As provided in §§ 404.8 and 404.9;

(2) Pursuant to a permit issued under §§ 404.10 or 404.11; or

(3) When conducting passage without interruption in accordance with paragraphs (b) through (f) of this section.

(b) Any person passing through the Monument without interruption is subject to the prohibitions in §§ 404.5, 404.6, and 404.7.

(c) The following vessels passing through the Monument without interruption must participate in the ship reporting system as provided in paragraphs (d) and (e) of this section:

(1) Vessels of the United States, except as provided in paragraph (f) of this section;

(2) All other ships 300 gross tonnage or greater, entering or departing a United States port or place; and

(3) All other ships in the event of an emergency, entering or departing a United States port or place.

(d) Immediately upon entering the reporting area, the vessels described in paragraph (c) of this section must provide the following information by e-mail sent to nwhi.notifications@noaa.gov in the IMO standard reporting format and data syntax shown in Appendix E:

(1) Vessel name, call sign or ship station identity, flag, and IMO identification number if applicable, and either Federal documentation or State registration number if applicable.

(2) Date, time (UTC) and month of entry.

(3) Position.

(4) True course.

(5) Speed in knots and tenths.

(6) Destination and estimated time of arrival.

(7) Intended route through the Monument and the reporting area.

(8) Vessel draft (in meters).

(9) Categories of hazardous cargoes on board.

(10) Any vessel defects or deficiencies that restrict maneuverability or impair normal navigation.

(11) Any pollution incident or goods lost overboard within the Monument, the reporting area, or the U.S. EEZ.

(12) Contact information for the vessel's agent or owner.

(13) Vessel size (length overall, gross tonnage) and type.

(14) Total number of persons on board.

(e) Immediately upon leaving the reporting area, the vessels described in paragraph (c) of this section must provide the following information by e-mail sent to nwhi.notifications@noaa.gov in the IMO standard reporting format and data syntax shown in Appendix E:

(1) Vessel name, call sign or ship station identity, flag, and IMO identification number if applicable, and either Federal documentation or State registration number if applicable.

(2) Date, time (UTC) and month of exit.

(3) Position.

(4) Any pollution incident or goods lost overboard within the Monument, the reporting area, or the U.S. EEZ.

(f)(1) Vessels of the United States less than 300 gross tonnage that are not equipped with onboard e-mail capability must provide notification of entry and the information described in paragraphs (d)(1), (2), (3) as applicable, (6), (7), (8), (9) as applicable, (10), (12), (13), and (14) of this section at least 72 hours, but no longer than 1 month, prior to the entry date. Notification of departure from the Monument and the information described in paragraph (e) must be provided within 12 hours of leaving. Notification under this paragraph may be made by e-mail, telephone, or fax, by contacting:

(i) E-mail: nwhi.notifications@noaa.gov;

(ii) Telephone: 1-866-478-NWHI (6944);

(iii) Fax: 1-808-397-2662.

(2) The information must be provided in the IMO standard reporting format and data syntax shown in Appendix E.

(g) All vessels passing through the Monument without interruption other than those described in paragraphs (c)(1) through (3) of this section should participate in the ship reporting system set forth in paragraphs (d) and (e) of this section.

4. Add Appendix C to part 404 to read as follows:

Appendix C to Part 404—Boundary Coordinated for Papahanaumokuakea Marine National Monument Areas To Be Avoided

APPENDIX C—GEOGRAPHICAL COORDINATES—AREAS TO BE AVOIDED—PAPAHANAUMOKUAKEA MARINE NATIONAL MONUMENT

Reference chart: United States 540, 2008 edition; 19016, 2008 edition; 19019, 2008 edition; 19022, 2008 edition.

These charts are based on World Geodetic System 1984 Datum (WGS-84) and astronomic datum.

Table C-1.—Kure Atoll, Midway Atoll, and Pearl and Hermes Atoll
Point | Latitude (N) | Longitude (W)
1 | 27°14′.76 | 176°29′.87
2 | 27°24′.95 | 177°33′.31
3 | 27°35′.87 | 178°29′.90
4 | 27°36′.64 | 178°33′.93
5 | 27°37′.53 | 178°37′.32
6 | 27°38′.60 | 178°40′.65
7 | 27°39′.85 | 178°43′.90
8 | 27°41′.28 | 178°47′.05
9 | 27°42′.89 | 178°50′.10
10 | 27°44′.66 | 178°53′.03
11 | 27°46′.59 | 178°55′.83
12 | 27°48′.67 | 178°58′.49
13 | 27°50′.89 | 179°01′.00
14 | 27°53′.22 | 179°03′.39
15 | 27°55′.69 | 179°05′.61
16 | 27°58′.29 | 179°07′.61
17 | 28°01′.01 | 179°09′.47
18 | 28°03′.81 | 179°11′.10
19 | 28°06′.71 | 179°12′.53
20 | 28°09′.67 | 179°13′.75
21 | 28°12′.70 | 179°14′.75
22 | 28°15′.78 | 179°15′.54
23 | 28°18′.91 | 179°16′.11
24 | 28°22′.04 | 179°16′.45
25 | 28°24′.72 | 179°16′.56
26 | 28°25′.20 | 179°16′.57
27 | 28°25′.81 | 179°16′.56
28 | 28°28′.35 | 179°16′.44
29 | 28°31′.49 | 179°16′.10
30 | 28°34′.61 | 179°15′.54
31 | 28°37′.69 | 179°14′.75
32 | 28°40′.71 | 179°13′.74
33 | 28°43′.68 | 179°12′.54
34 | 28°46′.58 | 179°11′.13
35 | 28°49′.39 | 179°09′.52
36 | 28°52′.11 | 179°07′.70
37 | 28°54′.72 | 179°05′.70
38 | 28°57′.21 | 179°03′.51
39 | 28°59′.58 | 179°01′.15
40 | 29°01′.81 | 178°58′.62
41 | 29°03′.90 | 178°55′.93
42 | 29°05′.83 | 178°53′.10
43 | 29°07′.60 | 178°50′.13
44 | 29°09′.21 | 178°47′.04
45 | 29°10′.64 | 178°43′.84
46 | 29°11′.89 | 178°40′.54
47 | 29°12′.95 | 178°37′.16
48 | 29°13′.82 | 178°33′.71
49 | 29°14′.50 | 178°30′.21
50 | 29°14′.99 | 178°26′.66
51 | 29°15′.28 | 178°23′.08
52 | 29°15′.36 | 178°19′.49
53 | 29°15′.25 | 178°15′.90
54 | 29°14′.94 | 178°12′.32
55 | 29°14′.43 | 178°08′.78
56 | 29°03′.47 | 177°12′.07
57 | 29°02′.55 | 177°07′.29
58 | 28°38′.96 | 175°35′.47
59 | 28°38′.67 | 175°34′.35
60 | 28°34′.91 | 175°19′.74
61 | 28°26′.24 | 175°10′.65
62 | 28°24′.61 | 175°08′.95
63 | 28°24′.53 | 175°09′.04
64 | 28°20′.09 | 175°04′.91
65 | 28°16′.05 | 175°01′.92
66 | 28°11′.78 | 174°59′.33
67 | 28°07′.29 | 174°57′.23
68 | 28°02′.63 | 174°55′.68
69 | 27°57′.84 | 174°54′.62
70 | 27°53′.01 | 174°54′.05
71 | 27°48′.12 | 174°54′.05
72 | 27°43′.28 | 174°54′.62
73 | 27°38′.48 | 174°55′.71
74 | 27°33′.81 | 174°57′.32
75 | 27°29′.30 | 174°59′.43
76 | 27°25′.00 | 175°02′.03
77 | 27°20′.93 | 175°05′.07
78 | 27°17′.18 | 175°08′.59
79 | 27°13′.73 | 175°12′.47
80 | 27°10′.59 | 175°16′.67
81 | 27°07′.88 | 175°21′.25
82 | 27°05′.57 | 175°26′.09
83 | 27°03′.66 | 175°31′.15
84 | 27°02′.22 | 175°36′.40
85 | 27°01′.29 | 175°41′.78
86 | 27°00′.73 | 175°47′.22
87 | 27°00′.68 | 175°52′.74
88 | 27°01′.09 | 175°58′.16
89 | 27°01′.99 | 176°03′.53
90 | 27°03′.34 | 176°08′.81
91 | 27°05′.12 | 176°13′.91
92 | 27°07′.37 | 176°18′.79
93 | 27°09′.98 | 176°23′.40
94 | 27°13′.02 | 176°27′.74
95 | 27°13′.77 | 176°28′.70

Table C-2.—Lisianski Island, Laysan Island, Maro Reef, and Raita Bank
Point | Latitude (N) | Longitude (W)
1 | 26°50′.89 | 173°30′.79
2 | 26°36′.00 | 171°37′.70
3 | 26°35′.49 | 171°33′.84
4 | 26°35′.10 | 171°30′.84
5 | 26°34′.07 | 171°27′.50
6 | 26°33′.35 | 171°25′.16
7 | 26°14′.26 | 170°23′.04
8 | 26°08′.69 | 169°48′.96
9 | 26°08′.36 | 169°49′.03
10 | 26°07′.62 | 169°45′.83
11 | 26°06′.03 | 169°40′.57
12 | 26°03′.97 | 169°35′.64
13 | 26°01′.51 | 169°30′.91
14 | 25°58′.65 | 169°26′.45
15 | 25°55′.32 | 169°22′.34
16 | 25°51′.67 | 169°18′.60
17 | 25°47′.78 | 169°15′.19
18 | 25°43′.54 | 169°12′.34
19 | 25°39′.05 | 169°09′.93
20 | 25°34′.37 | 169°08′.08
21 | 25°29′.54 | 169°06′.76
22 | 25°24′.61 | 169°05′.93
23 | 25°19′.63 | 169°05′.64
24 | 25°14′.65 | 169°05′.93
25 | 25°09′.69 | 169°06′.66
26 | 25°04′.85 | 169°08′.02
27 | 25°00′.17 | 169°09′.96
28 | 24°55′.66 | 169°12′.35
29 | 24°51′.35 | 169°15′.14
30 | 24°47′.37 | 169°18′.48
31 | 24°43′.69 | 169°22′.22
32 | 24°40′.34 | 169°26′.31
33 | 24°37′.42 | 169°30′.78
34 | 24°35′.00 | 169°35′.64
35 | 24°33′.02 | 169°40′.66
36 | 24°31′.34 | 169°45′.88
37 | 24°30′.31 | 169°51′.08
38 | 24°29′.68 | 169°56′.53
39 | 24°29′.56 | 170°01′.81
40 | 24°29′.61 | 170°04′.57
41 | 24°35′.77 | 170°44′.39
42 | 24°36′.29 | 170°47′.58
43 | 24°37′.18 | 170°50′.37
44 | 24°37′.76 | 170°52′.17
45 | 24°56′.23 | 171°50′.19
46 | 25°16′.61 | 174°24′.84
47 | 25°29′.56 | 174°38′.45
48 | 25°33′.28 | 174°42′.03
49 | 25°37′.33 | 174°45′.20
50 | 25°41′.68 | 174°47′.84
51 | 25°46′.23 | 174°50′.05
52 | 25°50′.93 | 174°51′.77
53 | 25°55′.80 | 174°52′.91
54 | 26°00′.71 | 174°53′.47
55 | 26°05′.67 | 174°53′.61
56 | 26°10′.59 | 174°53′.07
57 | 26°15′.46 | 174°52′.08
58 | 26°20′.20 | 174°50′.57
59 | 26°24′.75 | 174°48′.44
60 | 26°29′.15 | 174°45′.94
61 | 26°33′.26 | 174°42′.96
62 | 26°37′.11 | 174°39′.49
63 | 26°40′.60 | 174°35′.63
64 | 26°43′.75 | 174°31′.43
65 | 26°46′.49 | 174°26′.87
66 | 26°48′.90 | 174°22′.09
67 | 26°50′.79 | 174°17′.03
68 | 26°52′.20 | 174°11′.79
69 | 26°53′.21 | 174°06′.43
70 | 26°53′.74 | 174°00′.98
71 | 26°53′.74 | 173°55′.48
72 | 26°53′.29 | 173°50′.02
73 | 26°52′.56 | 173°44′.58
74 | 26°51′.85 | 173°39′.14
75 | 26°51′.13 | 173°33′.69
76 | 26°50′.75 | 173°30′.87

Table C-3.—Gardner Pinnacles, French Frigate Shoals, and Necker Island
Point | Latitude (N) | Longitude (W)
1 | 25°49′.64 | 167°52′.66
2 | 25°49′.70 | 167°52′.65
3 | 25°48′.99 | 167°48′.35
4 | 25°47′.09 | 167°36′.72
5 | 25°39′.84 | 167°26′.48
6 | 25°35′.10 | 167°19′.79
7 | 25°10′.43 | 166°45′.00
8 | 24°40′.91 | 166°03′.36
9 | 24°35′.64 | 165°34′.99
10 | 24°23′.78 | 164°31′.12
11 | 24°23′.59 | 164°31′.14
12 | 24°23′.31 | 164°29′.74
13 | 24°21′.85 | 164°24′.52
14 | 24°20′.10 | 164°19′.39
15 | 24°17′.75 | 164°14′.56
16 | 24°14′.99 | 164°09′.97
17 | 24°11′.86 | 164°05′.69
18 | 24°08′.30 | 164°01′.80
19 | 24°04′.48 | 163°58′.23
20 | 24°00′.27 | 163°55′.22
21 | 23°55′.85 | 163°52′.59
22 | 23°51′.17 | 163°50′.56
23 | 23°46′.33 | 163°48′.98
24 | 23°41′.37 | 163°47′.99
25 | 23°36′.34 | 163°47′.56
26 | 23°31′.27 | 163°47′.60
27 | 23°26′.27 | 163°48′.28
28 | 23°21′.34 | 163°49′.50
29 | 23°16′.53 | 163°51′.14
30 | 23°11′.96 | 163°53′.47
31 | 23°07′.54 | 163°56′.15
32 | 23°03′.46 | 163°59′.38
33 | 22°59′.65 | 164°03′.01
34 | 22°56′.27 | 164°07′.10
35 | 22°53′.22 | 164°11′.49
36 | 22°50′.60 | 164°16′.18
37 | 22°48′.48 | 164°21′.16
38 | 22°46′.73 | 164°26′.28
39 | 22°45′.49 | 164°31′.60
40 | 22°44′.83 | 164°37′.03
41 | 22°44′.65 | 164°42′.51
42 | 22°44′.92 | 164°47′.99
43 | 22°45′.11 | 164°49′.52
44 | 22°45′.39 | 164°51′.48
45 | 22°45′.17 | 164°51′.53
46 | 22°50′.26 | 165°34′.99
47 | 22°55′.50 | 166°19′.63
48 | 22°55′.93 | 166°23′.32
49 | 22°57′.41 | 166°36′.00
50 | 23°03′.75 | 166°45′.00
51 | 23°05′.48 | 166°47′.45
52 | 24°12′.70 | 168°22′.86
53 | 24°12′.88 | 168°22′.78
54 | 24°16′.05 | 168°27′.28
55 | 24°19′.15 | 168°31′.66
56 | 24°22′.27 | 168°35′.95
57 | 24°25′.71 | 168°39′.94
58 | 24°29′.51 | 168°43′.55
59 | 24°33′.67 | 168°46′.63
60 | 24°38′.06 | 168°49′.29
61 | 24°42′.68 | 168°51′.46
62 | 24°47′.45 | 168°53′.12
63 | 24°52′.34 | 168°54′.28
64 | 24°57′.32 | 168°54′.82
65 | 25°02′.32 | 168°54′.95
66 | 25°07′.30 | 168°54′.43
67 | 25°12′.19 | 168°53′.32
68 | 25°16′.99 | 168°51′.76
69 | 25°21′.57 | 168°49′.60
70 | 25°25′.94 | 168°46′.93
71 | 25°30′.09 | 168°43′.86
72 | 25°33′.89 | 168°40′.42
73 | 25°37′.37 | 168°36′.52
74 | 25°40′.49 | 168°32′.24
75 | 25°43′.24 | 168°27′.68
76 | 25°45′.57 | 168°22′.82
77 | 25°47′.43 | 168°17′.76
78 | 25°48′.79 | 168°12′.47
79 | 25°49′.72 | 168°07′.09
80 | 25°50′.11 | 168°01′.62
81 | 25°50′.18 | 168°00′.09

Table C-4.—Nihoa Island
Point | Latitude (N) | Longitude (W)
1 | 23°52′.82 | 161°44′.54
2 | 23°52′.10 | 161°41′.20
3 | 23°51′.18 | 161°37′.92
4 | 23°50′.08 | 161°34′.71
5 | 23°48′.79 | 161°31′.58
6 | 23°47′.33 | 161°28′.55
7 | 23°45′.69 | 161°25′.62
8 | 23°43′.88 | 161°22′.81
9 | 23°41′.92 | 161°20′.13
10 | 23°39′.80 | 161°17′.60
11 | 23°37′.54 | 161°15′.21
12 | 23°35′.14 | 161°12′.99
13 | 23°32′.62 | 161°10′.93
14 | 23°29′.99 | 161°09′.05
15 | 23°27′.25 | 161°07′.35
16 | 23°24′.42 | 161°05′.85
17 | 23°21′.51 | 161°04′.54
18 | 23°18′.52 | 161°03′.43
19 | 23°15′.48 | 161°02′.53
20 | 23°12′.39 | 161°01′.84
21 | 23°09′.27 | 161°01′.35
22 | 23°06′.13 | 161°01′.09
23 | 23°02′.97 | 161°01′.03
24 | 22°59′.82 | 161°01′.19
25 | 22°56′.69 | 161°01′.57
26 | 22°53′.58 | 161°02′.15
27 | 22°50′.51 | 161°02′.95
28 | 22°47′.50 | 161°03′.95
29 | 22°44′.55 | 161°05′.15
30 | 22°41′.67 | 161°06′.54
31 | 22°38′.88 | 161°08′.13
32 | 22°36′.19 | 161°09′.90
33 | 22°33′.61 | 161°11′.85
34 | 22°31′.14 | 161°13′.97
35 | 22°28′.81 | 161°16′.25
36 | 22°26′.61 | 161°18′.69
37 | 22°24′.56 | 161°21′.26
38 | 22°22′.66 | 161°23′.97
39 | 22°20′.92 | 161°26′.80
40 | 22°19′.35 | 161°29′.74
41 | 22°17′.95 | 161°32′.78
42 | 22°16′.73 | 161°35′.90
43 | 22°15′.70 | 161°39′.10
44 | 22°14′.85 | 161°42′.37
45 | 22°14′.20 | 161°45′.68
46 | 22°13′.73 | 161°49′.03
47 | 22°13′.47 | 161°52′.41
48 | 22°13′.40 | 161°55′.80
49 | 22°13′.53 | 161°59′.18
50 | 22°13′.85 | 162°02′.55
51 | 22°14′.31 | 162°05′.45
52 | 22°14′.37 | 162°05′.89
53 | 22°14′.59 | 162°06′.88
54 | 22°15′.87 | 162°12′.18
55 | 22°17′.70 | 162°17′.31
56 | 22°19′.97 | 162°22′.20
57 | 22°22′.73 | 162°26′.84
58 | 22°25′.88 | 162°31′.15
59 | 22°29′.41 | 162°35′.09
60 | 22°33′.28 | 162°38′.61
61 | 22°37′.47 | 162°41′.72
62 | 22°41′.93 | 162°44′.34
63 | 22°46′.63 | 162°46′.47
64 | 22°51′.48 | 162°48′.05
65 | 22°56′.46 | 162°49′.09
66 | 23°01′.50 | 162°49′.58
67 | 23°06′.58 | 162°49′.49
68 | 23°11′.61 | 162°48′.89
69 | 23°16′.57 | 162°47′.70
70 | 23°21′.36 | 162°45′.98
71 | 23°26′.02 | 162°43′.75
72 | 23°30′.40 | 162°41′.01
73 | 23°34′.51 | 162°37′.83
74 | 23°38′.26 | 162°34′.18
75 | 23°41′.69 | 162°30′.18
76 | 23°44′.72 | 162°25′.79
77 | 23°47′.36 | 162°21′.11
78 | 23°49′.55 | 162°16′.16
79 | 23°51′.24 | 162°10′.99
80 | 23°52′.44 | 162°05′.63
81 | 23°53′.14 | 162°00′.25
82 | 23°53′.36 | 161°54′.75
83 | 23°53′.09 | 161°49′.28
84 | 23°52′.82 | 161°47′.09
85 | 23°52′.39 | 161°44′.67

5. Add Appendix D to Part 404 to read as follows:

Appendix D to Part 404—Boundary Coordinates for Papahanaumokuakea Marine National Monument Ship Reporting Area

APPENDIX D—GEOGRAPHICAL COORDINATES—SHIP REPORTING AREA—PAPAHANAUMOKUAKEA MARINE NATIONAL MONUMENT

Reference chart: United States 540, 2008 edition; 19016, 2008 edition; 19019, 2008 edition; 19022, 2008 edition.

These charts are based on World Geodetic System 1984 Datum (WGS-84) and astronomic datum.

Table D-1.—Outer Boundary
Point | Latitude (N) | Longitude (W)
1 | 29°25′.47 | 178°16′.97
2 | 28°43′.73 | 175°13′.84
3 | 27°00′.77 | 173°25′.78
4 | 26°44′.91 | 171°28′.07
5 | 26°24′.23 | 170°20′.59
6 | 25°56′.43 | 167°32′.10
7 | 24°50′.20 | 165°58′.69
8 | 24°05′.52 | 161°56′.86
9 | 24°05′.29 | 161°56′.62
10 | 24°04′.37 | 161°51′.53
11 | 24°03′.44 | 161°46′.45
12 | 24°02′.41 | 161°41′.39
13 | 24°01′.31 | 161°36′.35
14 | 23°59′.68 | 161°31′.55
15 | 23°57′.85 | 161°26′.85
16 | 23°55′.54 | 161°22′.31
17 | 23°52′.96 | 161°17′.92
18 | 23°50′.12 | 161°13′.72
19 | 23°46′.94 | 161°10′.08
20 | 23°43′.49 | 161°06′.47
21 | 23°39′.71 | 161°03′.09
22 | 23°35′.72 | 161°00′.14
23 | 23°31′.59 | 160°57′.46
24 | 23°27′.32 | 160°55′.23
25 | 23°22′.74 | 160°53′.71
26 | 23°18′.29 | 160°52′.17
27 | 23°13′.57 | 160°51′.04
28 | 23°08′.68 | 160°50′.46
29 | 23°03′.70 | 160°50′.17
30 | 22°58′.67 | 160°50′.35
31 | 22°53′.84 | 160°51′.04
32 | 22°49′.11 | 160°52′.20
33 | 22°44′.46 | 160°53′.56
34 | 22°40′.03 | 160°55′.52
35 | 22°35′.73 | 160°57′.68
36 | 22°31′.54 | 161°00′.25
37 | 22°27′.57 | 161°03′.23
38 | 22°23′.76 | 161°06′.64
39 | 22°20′.24 | 161°10′.23
40 | 22°17′.02 | 161°14′.13
41 | 22°14′.04 | 161°18′.34
42 | 22°11′.35 | 161°22′.80
43 | 22°09′.19 | 161°27′.45
44 | 22°07′.29 | 161°32′.11
45 | 22°05′.87 | 161°36′.94
46 | 22°04′.62 | 161°41′.89
47 | 22°03′.94 | 161°47′.09
48 | 22°03′.41 | 161°52′.36
49 | 22°03′.41 | 161°57′.51
50 | 22°03′.82 | 162°02′.83
51 | 22°04′.49 | 162°08′.04
52 | 22°05′.43 | 162°13′.12
53 | 22°05′.97 | 162°16′.41
54 | 22°06′.29 | 162°16′.85
55 | 22°34′.57 | 164°47′.27
56 | 22°47′.60 | 166°38′.23
57 | 24°03′.82 | 168°27′.91
58 | 24°25′.76 | 170°45′.39
59 | 24°46′.54 | 171°53′.03
60 | 25°07′.60 | 174°28′.71
61 | 27°05′.82 | 176°35′.51
62 | 27°27′.32 | 178°38′.66
63 | 27°28′.93 | 178°43′.56
64 | 27°30′.64 | 178°48′.40
65 | 27°32′.74 | 178°52′.96
66 | 27°35′.06 | 178°57′.30
67 | 27°37′.89 | 179°01′.49
68 | 27°40′.90 | 179°05′.60
69 | 27°44′.17 | 179°09′.41
70 | 27°47′.74 | 179°12′.85
71 | 27°51′.45 | 179°16′.00
72 | 27°55′.32 | 179°18′.82
73 | 27°59′.33 | 179°21′.13
74 | 28°03′.49 | 179°23′.15
75 | 28°07′.82 | 179°24′.76
76 | 28°12′.31 | 179°26′.18
77 | 28°16′.95 | 179°27′.05
78 | 28°21′.61 | 179°27′.63
79 | 28°26′.18 | 179°27′.77
80 | 28°30′.87 | 179°27′.48
81 | 28°35′.61 | 179°26′.95
82 | 28°40′.09 | 179°25′.75
83 | 28°44′.46 | 179°24′.31
84 | 28°48′.70 | 179°22′.50
85 | 28°52′.81 | 179°20′.43
86 | 28°56′.71 | 179°17′.77
87 | 29°00′.58 | 179°14′.92
88 | 29°04′.18 | 179°11′.69
89 | 29°07′.62 | 179°08′.20
90 | 29°10′.86 | 179°04′.37
91 | 29°13′.76 | 179°00′.21
92 | 29°16′.24 | 178°55′.78
93 | 29°18′.51 | 178°51′.26
94 | 29°20′.45 | 178°46′.50
95 | 29°22′.26 | 178°41′.67
96 | 29°23′.52 | 178°36′.64
97 | 29°24′.53 | 178°31′.54
98 | 29°25′.16 | 178°26′.31
99 | 29°25′.42 | 178°20′.92
100 | 29°25′.29 | 178°16′.70

Table D-2.—Inner Boundary Around Kure Atoll, Midway Atoll, and Pearl and Hermes Atoll
Point | Latitude (N) | Longitude (W)
1 | 27°14′.76 | 176°29′.87
2 | 27°24′.95 | 177°33′.31
3 | 27°35′.87 | 178°29′.90
4 | 27°36′.64 | 178°33′.93
5 | 27°37′.53 | 178°37′.32
6 | 27°38′.60 | 178°40′.65
7 | 27°39′.85 | 178°43′.90
8 | 27°41′.28 | 178°47′.05
9 | 27°42′.89 | 178°50′.10
10 | 27°44′.66 | 178°53′.03
11 | 27°46′.59 | 178°55′.83
12 | 27°48′.67 | 178°58′.49
13 | 27°50′.89 | 179°01′.00
14 | 27°53′.22 | 179°03′.39
15 | 27°55′.69 | 179°05′.61
16 | 27°58′.29 | 179°07′.61
17 | 28°01′.01 | 179°09′.47
18 | 28°03′.81 | 179°11′.10
19 | 28°06′.71 | 179°12′.53
20 | 28°09′.67 | 179°13′.75
21 | 28°12′.70 | 179°14′.75
22 | 28°15′.78 | 179°15′.54
23 | 28°18′.91 | 179°16′.11
24 | 28°22′.04 | 179°16′.45
25 | 28°24′.72 | 179°16′.56
26 | 28°25′.20 | 179°16′.57
27 | 28°25′.81 | 179°16′.56
28 | 28°28′.35 | 179°16′.44
29 | 28°31′.49 | 179°16′.10
30 | 28°34′.61 | 179°15′.54
31 | 28°37′.69 | 179°14′.75
32 | 28°40′.71 | 179°13′.74
33 | 28°43′.68 | 179°12′.54
34 | 28°46′.58 | 179°11′.13
35 | 28°49′.39 | 179°09′.52
36 | 28°52′.11 | 179°07′.70
37 | 28°54′.72 | 179°05′.70
38 | 28°57′.21 | 179°03′.51
39 | 28°59′.58 | 179°01′.15
40 | 29°01′.81 | 178°58′.62
41 | 29°03′.90 | 178°55′.93
42 | 29°05′.83 | 178°53′.10
43 | 29°07′.60 | 178°50′.13
44 | 29°09′.21 | 178°47′.04
45 | 29°10′.64 | 178°43′.84
46 | 29°11′.89 | 178°40′.54
47 | 29°12′.95 | 178°37′.16
48 | 29°13′.82 | 178°33′.71
49 | 29°14′.50 | 178°30′.21
50 | 29°14′.99 | 178°26′.66
51 | 29°15′.28 | 178°23′.08
52 | 29°15′.36 | 178°19′.49
53 | 29°15′.25 | 178°15′.90
54 | 29°14′.94 | 178°12′.32
55 | 29°14′.43 | 178°08′.78
56 | 29°03′.47 | 177°12′.07
57 | 29°02′.55 | 177°07′.29
58 | 28°38′.96 | 175°35′.47
59 | 28°38′.67 | 175°34′.35
60 | 28°34′.91 | 175°19′.74
61 | 28°26′.24 | 175°10′.65
62 | 28°24′.61 | 175°08′.95
63 | 28°24′.53 | 175°09′.04
64 | 28°20′.09 | 175°04′.91
65 | 28°16′.05 | 175°01′.92
66 | 28°11′.78 | 174°59′.33
67 | 28°07′.29 | 174°57′.23
68 | 28°02′.63 | 174°55′.68
69 | 27°57′.84 | 174°54′.62
70 | 27°53′.01 | 174°54′.05
71 | 27°48′.12 | 174°54′.05
72 | 27°43′.28 | 174°54′.62
73 | 27°38′.48 | 174°55′.71
74 | 27°33′.81 | 174°57′.32
75 | 27°29′.30 | 174°59′.43
76 | 27°25′.00 | 175°02′.03
77 | 27°20′.93 | 175°05′.07
78 | 27°17′.18 | 175°08′.59
79 | 27°13′.73 | 175°12′.47
80 | 27°10′.59 | 175°16′.67
81 | 27°07′.88 | 175°21′.25
82 | 27°05′.57 | 175°26′.09
83 | 27°03′.66 | 175°31′.15
84 | 27°02′.22 | 175°36′.40
85 | 27°01′.29 | 175°41′.78
86 | 27°00′.73 | 175°47′.22
87 | 27°00′.68 | 175°52′.74
88 | 27°01′.09 | 175°58′.16
89 | 27°01′.99 | 176°03′.53
90 | 27°03′.34 | 176°08′.81
91 | 27°05′.12 | 176°13′.91
92 | 27°07′.37 | 176°18′.79
93 | 27°09′.98 | 176°23′.40
94 | 27°13′.02 | 176°27′.74
95 | 27°13′.77 | 176°28′.70

Table D-3.—Inner Boundary Around Lisianski Island, Laysan Island, Maro Reef, and Raita Bank
Point | Latitude (N) | Longitude (W)
1 | 26°50′.89 | 173°30′.79
2 | 26°36′.00 | 171°37′.70
3 | 26°35′.49 | 171°33′.84
4 | 26°35′.10 | 171°30′.84
5 | 26°34′.07 | 171°27′.50
6 | 26°33′.35 | 171°25′.16
7 | 26°14′.26 | 170°23′.04
8 | 26°08′.69 | 169°48′.96
9 | 26°08′.36 | 169°49′.03
10 | 26°07′.62 | 169°45′.83
11 | 26°06′.03 | 169°40′.57
12 | 26°03′.97 | 169°35′.64
13 | 26°01′.51 | 169°30′.91
14 | 25°58′.65 | 169°26′.45
15 | 25°55′.32 | 169°22′.34
16 | 25°51′.67 | 169°18′.60
17 | 25°47′.78 | 169°15′.19
18 | 25°43′.54 | 169°12′.34
19 | 25°39′.05 | 169°09′.93
20 | 25°34′.37 | 169°08′.08
21 | 25°29′.54 | 169°06′.76
22 | 25°24′.61 | 169°05′.93
23 | 25°19′.63 | 169°05′.64
24 | 25°14′.65 | 169°05′.93
25 | 25°09′.69 | 169°06′.66
26 | 25°04′.85 | 169°08′.02
27 | 25°00′.17 | 169°09′.96
28 | 24°55′.66 | 169°12′.35
29 | 24°51′.35 | 169°15′.14
30 | 24°47′.37 | 169°18′.48
31 | 24°43′.69 | 169°22′.22
32 | 24°40′.34 | 169°26′.31
33 | 24°37′.42 | 169°30′.78
34 | 24°35′.00 | 169°35′.64
35 | 24°33′.02 | 169°40′.66
36 | 24°31′.34 | 169°45′.88
37 | 24°30′.31 | 169°51′.08
38 | 24°29′.68 | 169°56′.53
39 | 24°29′.56 | 170°01′.81
40 | 24°29′.61 | 170°04′.57
41 | 24°35′.77 | 170°44′.39
42 | 24°36′.29 | 170°47′.58
43 | 24°37′.18 | 170°50′.37
44 | 24°37′.76 | 170°52′.17
45 | 24°56′.23 | 171°50′.19
46 | 25°16′.61 | 174°24′.84
47 | 25°29′.56 | 174°38′.45
48 | 25°33′.28 | 174°42′.03
49 | 25°37′.33 | 174°45′.20
50 | 25°41′.68 | 174°47′.84
51 | 25°46′.23 | 174°50′.05
52 | 25°50′.93 | 174°51′.77
53 | 25°55′.80 | 174°52′.91
54 | 26°00′.71 | 174°53′.47
55 | 26°05′.67 | 174°53′.61
56 | 26°10′.59 | 174°53′.07
57 | 26°15′.46 | 174°52′.08
58 | 26°20′.20 | 174°50′.57
59 | 26°24′.75 | 174°48′.44
60 | 26°29′.15 | 174°45′.94
61 | 26°33′.26 | 174°42′.96
62 | 26°37′.11 | 174°39′.49
63 | 26°40′.60 | 174°35′.63
64 | 26°43′.75 | 174°31′.43
65 | 26°46′.49 | 174°26′.87
66 | 26°48′.90 | 174°22′.09
67 | 26°50′.79 | 174°17′.03
68 | 26°52′.20 | 174°11′.79
69 | 26°53′.21 | 174°06′.43
70 | 26°53′.74 | 174°00′.98
71 | 26°53′.74 | 173°55′.48
72 | 26°53′.29 | 173°50′.02
73 | 26°52′.56 | 173°44′.58
74 | 26°51′.85 | 173°39′.14
75 | 26°51′.13 | 173°33′.69
76 | 26°50′.75 | 173°30′.87

Table D-4.—Inner Boundary Around Gardner Pinnacles, French Frigate Shoals, and Necker Island
Point | Latitude (N) | Longitude (W)
1 | 25°49′.64 | 167°52′.66
2 | 25°49′.70 | 167°52′.65
3 | 25°48′.99 | 167°48′.35
4 | 25°47′.09 | 167°36′.72
5 | 25°39′.84 | 167°26′.48
6 | 25°35′.10 | 167°19′.79
7 | 25°10′.43 | 166°45′.00
8 | 24°40′.91 | 166°03′.36
9 | 24°35′.64 | 165°34′.99
10 | 24°23′.78 | 164°31′.12
11 | 24°23′.59 | 164°31′.14
12 | 24°23′.31 | 164°29′.74
13 | 24°21′.85 | 164°24′.52
14 | 24°20′.10 | 164°19′.39
15 | 24°17′.75 | 164°14′.56
16 | 24°14′.99 | 164°09′.97
17 | 24°11′.86 | 164°05′.69
18 | 24°08′.30 | 164°01′.80
19 | 24°04′.48 | 163°58′.23
20 | 24°00′.27 | 163°55′.22
21 | 23°55′.85 | 163°52′.59
22 | 23°51′.17 | 163°50′.56
23 | 23°46′.33 | 163°48′.98
24 | 23°41′.37 | 163°47′.99
25 | 23°36′.34 | 163°47′.56
26 | 23°31′.27 | 163°47′.60
27 | 23°26′.27 | 163°48′.28
28 | 23°21′.34 | 163°49′.50
29 | 23°16′.53 | 163°51′.14
30 | 23°11′.96 | 163°53′.47
31 | 23°07′.54 | 163°56′.15
32 | 23°03′.46 | 163°59′.38
33 | 22°59′.65 | 164°03′.01
34 | 22°56′.27 | 164°07′.10
35 | 22°53′.22 | 164°11′.49
36 | 22°50′.60 | 164°16′.18
37 | 22°48′.48 | 164°21′.16
38 | 22°46′.73 | 164°26′.28
39 | 22°45′.49 | 164°31′.60
40 | 22°44′.83 | 164°37′.03
41 | 22°44′.65 | 164°42′.51
42 | 22°44′.92 | 164°47′.99
43 | 22°45′.11 | 164°49′.52
44 | 22°45′.39 | 164°51′.48
45 | 22°45′.17 | 164°51′.53
46 | 22°50′.26 | 165°34′.99
47 | 22°55′.50 | 166°19′.63
48 | 22°55′.93 | 166°23′.32
49 | 22°57′.41 | 166°36′.00
50 | 23°03′.75 | 166°45′.00
51 | 23°05′.48 | 166°47′.45
52 | 24°12′.70 | 168°22′.86
53 | 24°12′.88 | 168°22′.78
54 | 24°16′.05 | 168°27′.28
55 | 24°19′.15 | 168°31′.66
56 | 24°22′.27 | 168°35′.95
57 | 24°25′.71 | 168°39′.94
58 | 24°29′.51 | 168°43′.55
59 | 24°33′.67 | 168°46′.63
60 | 24°38′.06 | 168°49′.29
61 | 24°42′.68 | 168°51′.46
62 | 24°47′.45 | 168°53′.12
63 | 24°52′.34 | 168°54′.28
64 | 24°57′.32 | 168°54′.82
65 | 25°02′.32 | 168°54′.95
66 | 25°07′.30 | 168°54′.43
67 | 25°12′.19 | 168°53′.32
68 | 25°16′.99 | 168°51′.76
69 | 25°21′.57 | 168°49′.60
70 | 25°25′.94 | 168°46′.93
71 | 25°30′.09 | 168°43′.86
72 | 25°33′.89 | 168°40′.42
73 | 25°37′.37 | 168°36′.52
74 | 25°40′.49 | 168°32′.24
75 | 25°43′.24 | 168°27′.68
76 | 25°45′.57 | 168°22′.82
77 | 25°47′.43 | 168°17′.76
78 | 25°48′.79 | 168°12′.47
79 | 25°49′.72 | 168°07′.09
80 | 25°50′.11 | 168°01′.62
81 | 25°50′.18 | 168°00′.09

Table D-5.—Inner Boundary Around Nihoa Island
Point | Latitude (N) | Longitude (W)
1 | 23°52′.82 | 161°44′.54
2 | 23°52′.10 | 161°41′.20
3 | 23°51′.18 | 161°37′.92
4 | 23°50′.08 | 161°34′.71
5 | 23°48′.79 | 161°31′.58
6 | 23°47′.33 | 161°28′.55
7 | 23°45′.69 | 161°25′.62
8 | 23°43′.88 | 161°22′.81
9 | 23°41′.92 | 161°20′.13
10 | 23°39′.80 | 161°17′.60
11 | 23°37′.54 | 161°15′.21
12 | 23°35′.14 | 161°12′.99
13 | 23°32′.62 | 161°10′.93
14 | 23°29′.99 | 161°09′.05
15 | 23°27′.25 | 161°07′.35
16 | 23°24′.42 | 161°05′.85
17 | 23°21′.51 | 161°04′.54
18 | 23°18′.52 | 161°03′.43
19 | 23°15′.48 | 161°02′.53
20 | 23°12′.39 | 161°01′.84
21 | 23°09′.27 | 161°01′.35
22 | 23°06′.13 | 161°01′.09
23 | 23°02′.97 | 161°01′.03
24 | 22°59′.82 | 161°01′.19
25 | 22°56′.69 | 161°01′.57
26 | 22°53′.58 | 161°02′.15
27 | 22°50′.51 | 161°02′.95
28 | 22°47′.50 | 161°03′.95
29 | 22°44′.55 | 161°05′.15
30 | 22°41′.67 | 161°06′.54
31 | 22°38′.88 | 161°08′.13
32 | 22°36′.19 | 161°09′.90
33 | 22°33′.61 | 161°11′.85
34 | 22°31′.14 | 161°13′.97
35 | 22°28′.81 | 161°16′.25
36 | 22°26′.61 | 161°18′.69
37 | 22°24′.56 | 161°21′.26
38 | 22°22′.66 | 161°23′.97
39 | 22°20′.92 | 161°26′.80
40 | 22°19′.35 | 161°29′.74
41 | 22°17′.95 | 161°32′.78
42 | 22°16′.73 | 161°35′.90
43 | 22°15′.70 | 161°39′.10
44 | 22°14′.85 | 161°42′.37
45 | 22°14′.20 | 161°45′.68
46 | 22°13′.73 | 161°49′.03
47 | 22°13′.47 | 161°52′.41
48 | 22°13′.40 | 161°55′.80
49 | 22°13′.53 | 161°59′.18
50 | 22°13′.85 | 162°02′.55
51 | 22°14′.31 | 162°05′.45
52 | 22°14′.37 | 162°05′.89
53 | 22°14′.59 | 162°06′.88
54 | 22°15′.87 | 162°12′.18
55 | 22°17′.70 | 162°17′.31
56 | 22°19′.97 | 162°22′.20
57 | 22°22′.73 | 162°26′.84
58 | 22°25′.88 | 162°31′.15
59 | 22°29′.41 | 162°35′.09
60 | 22°33′.28 | 162°38′.61
61 | 22°37′.47 | 162°41′.72
62 | 22°41′.93 | 162°44′.34
63 | 22°46′.63 | 162°46′.47
64 | 22°51′.48 | 162°48′.05
65 | 22°56′.46 | 162°49′.09
66 | 23°01′.50 | 162°49′.58
67 | 23°06′.58 | 162°49′.49
68 | 23°11′.61 | 162°48′.89
69 | 23°16′.57 | 162°47′.70
70 | 23°21′.36 | 162°45′.98
71 | 23°26′.02 | 162°43′.75
72 | 23°30′.40 | 162°41′.01
73 | 23°34′.51 | 162°37′.83
74 | 23°38′.26 | 162°34′.18
75 | 23°41′.69 | 162°30′.18
76 | 23°44′.72 | 162°25′.79
77 | 23°47′.36 | 162°21′.11
78 | 23°49′.55 | 162°16′.16
79 | 23°51′.24 | 162°10′.99
80 | 23°52′.44 | 162°05′.63
81 | 23°53′.14 | 162°00′.25
82 | 23°53′.36 | 161°54′.75
83 | 23°53′.09 | 161°49′.28
84 | 23°52′.82 | 161°47′.09
85 | 23°52′.39 | 161°44′.67

6. Add Appendix E to Part 404 to read as follows:

Appendix E to Part 404—Content and Syntax for Papahanaumokuakea Ship Reporting System

Immediately upon crossing the reporting area boundary, notification should be sent as a direct e-mail to nwhi.notifications@noaa.gov in the prescribed format and data syntax shown. Use of batch message routing services which may delay receipt of a report should not be used. Failure to follow the exact format (e.g., extra information, extraneous characters, or double spacing) may cause the automated computer system to reject your report. Note: Report transmission costs via INMARSAT-C will be assumed by NOAA.

E.1 Entry Notification Format

Immediately upon entering the Reporting Area, vessels required to participate must provide the following information.

Table E.1.—Information Required for Entry Notification
Telegraphy | Function | Information required | Example field text
| System identifier | CORAL SHIPREP // | CORAL SHIPREP//
A | Ship | Vessel name / call sign / flag / IMO number / Federal documentation or State registration number if applicable // | A/OCEAN VOYAGER/C5FU8/BAHAMAS/IMO 9359165//
B | Date, time (UTC), and month of entry | A 6-digit group giving day of month (first two digits), hours and minutes (last four digits) in coordinated universal time, suffixed by the letter Z (indicating time in UTC), and three letters indicating month // | B/271107Z DEC//
C | Position | A 4-digit group giving latitude in degrees and minutes, suffixed with the letter N (indicating north), followed by a single / , and a 5-digit group giving longitude in degrees and minutes, suffixed with the letter W (indicating west) // [Report in the World Geodetic System 1984 Datum (WGS-84)] | C/2728N/17356W//
E | True course | 3-digit number indicating true course // | E/180//
F | Speed in knots and tenths | 3-digit group indicating knots decimal tenths // | F/20.5//
I | Destination and estimated time of arrival | Name of port city / country / estimated arrival date and time group expressed as in (B) // | I/SEATTLE/USA/311230Z DEC//
L | Intended route through the reporting area | Route information should be reported as a direct rhumbline (RL) course through the reporting area and intended speed (expressed as in E and F) or a series of way points (WP). Each waypoint entry should be reported as latitude and longitude, expressed as in (C), and intended speed between waypoints (as in F) // (Note: As many “L” lines as needed may be used to describe the vessel's intended route.) | L/RL/215/20.5// or L/WP/2734N/17352W/20.5//L/WP/2641N/17413W/20.5//L/WP/2605N/17530W/20.5//
O | Vessel draft in meters | Maximum present static draft reported in meters decimal centimeters // | O/11.50//
P | Categories of Hazardous Cargoes* | Classification Code (e.g. IMDG, IBC, IGC, INF) / and all corresponding Categories of Hazardous Cargoes (delimited by commas) // Note: If necessary, use a separate “P” line for each type of Classification Code. | P/IMDG/1.4G,2.1,2.2,2.3,3,4.1,6.1,8,9//
Q | Defects or deficiencies** | Brief details of defects, damage, deficiencies or limitations that restrict maneuverability or impair normal navigation // (If none, enter the number zero.) | Q/Include details as required//
R | Pollution incident or goods lost overboard** | Description of pollution incident or goods lost overboard within the Monument, the Reporting Area, or the U.S. Exclusive Economic Zone // (If none, enter the number zero.) | R/0//
T | Contact information of ship's agent or owner | Name / address / and phone number of ship's agent or owner // | T/JOHN DOE/GENERIC SHIPPING COMPANY INC, 6101 ACME ROAD, ROOM 123, CITY, STATE, COUNTRY 12345/123-123-1234//
U | Ship size (length overall and gross tonnage) and type | Length overall reported in meters decimal centimeters / number of gross tons / type of ship (e.g. bulk carrier, chemical tanker, oil tanker, gas tanker, container, general cargo, fishing vessel, research, passenger, OBO, RORO) // | U/294.14/54592/CONTAINER SHIP//
W | Persons | Total number of persons on board // | W/15//
Table E.1. Notes:
* Categories of hazardous cargoes means goods classified in the International Maritime Dangerous Goods (IMDG) Code; substances classified in chapter 17 of the International Code for the Construction and Equipment of Ships Carrying Dangerous Chemicals in Bulk (IBC Code) and chapter 19 of the International Code for the Construction and Equipment of Ships Carrying Liquefied Gases in Bulk (IGC Code); oils as defined in MARPOL Annex I; noxious liquid substances as defined in MARPOL Annex II; harmful substances as defined in MARPOL Annex III; and radioactive materials specified in the Code for the Safe Carriage of the Irradiated Nuclear Fuel, Plutonium and High-Level Radioactive Wastes in Flasks Onboard Ships (INF Code).
** In accordance with the provisions of the MARPOL Convention, ships must report information relating to defects, damage, deficiencies or other limitations as well as, if necessary, information relating to pollution incidents or loss of cargo. Safety related reports must be provided to CORAL SHIPREP without delay should a ship suffer damage, failure or breakdown affecting the safety of the ship (Item Q), or if a ship makes a marked deviation from a route, course or speed previously advised (Item L). Pollution or cargo lost overboard must be reported without delay (Item R).

E.2 Prior Notification of Entry Format

Vessels of the United States less than 300 gross tonnage that are not equipped with onboard e-mail capability must provide the following notification of entry at least 72 hrs, but no longer than 1 month, prior to entry date, utilizing the data syntax described above. Notification may be made via the following communication methods, listed in order of preference: e-mail [nwhi.notifications@noaa.gov]; fax [1-808-397-2662]; telephone [1-866-478-NWHI (6944), 1-808-395-NWHI (6944)].

Table E.2.—Information Required for Prior Notification
System identifier: PRIOR NOTICE //
Items: A, B, C (as applicable), I, L, O, P (as applicable), Q, T, U, W

E.3 Exit Notification Format

Immediately upon leaving the Reporting Area, vessels required to participate must provide the following information.

Vessels of the United States less than 300 gross tonnage that are not equipped with onboard e-mail capability must provide the following Exit Notification information within 12 hrs of leaving the Reporting Area. Notification may be made via the following communication methods, listed in order of preference: e-mail [nwhi.notifications@noaa.gov]; fax [1-808-397-2662]; telephone [1-866-478-NWHI (6944), 1-808-395-NWHI (6944)].

Table E.3.—Information Required for Exit Notification
Telegraphy | Function | Information required | Example field text
| System identifier | CORAL SHIPREP // | CORAL SHIPREP//
A | Ship | Vessel name / call sign / flag / IMO number / Federal documentation or State registration number if applicable // | A/OCEANVOYAGER/C5FU8/BAHAMAS/IMO 9359165//
B | Date, time (UTC), and month of exit | A 6-digit group giving day of month (first two digits), hours and minutes (last four digits), suffixed by the letter Z indicating time in UTC, and three letters indicating month// | B/271657Z DEC//
C | Position | A 4-digit group giving latitude in degrees and minutes, suffixed with the letter N (indicating north), followed by a single / , and a five digit group giving longitude in degrees and minutes, suffixed with the letter W (indicating west) // [Report in the World Geodetic System 1984 Datum (WGS-84)] | C/2605N/17530W//
R | Pollution incident or goods lost overboard | Description of pollution incident or goods lost overboard within the Monument, the Reporting Area, or the U.S. Exclusive Economic Zone // (If none, enter the number zero.) | R/0//

E.4 Example Entry Report

CORAL SHIPREP//

A/SEA ROVER/WFSU/USA/IMO 8674208/DOC 602011//

B/010915Z JUN//

C/2636N/17600W//

E/050//

F/20.0//

I/LOS ANGELES/USA/081215Z JUN//

L/RL/050/20.0//

O/10.90//

P/IMDG/3,4.1,6.1,8,9//

Q/0//

R/0//

T/JOHN DOE/CONTAINER SHIPPERS INC, 500 PORT ROAD, ROOM 123, LOS ANGELES, CA, USA 90050/213-123-1234//

U/199.90/27227/CONTAINER SHIP//

W/15//

E.5 Example Exit Report

CORAL SHIPREP//

A/SEA ROVER/WFSU/USA/IMO 8674208/DOC 602011//

B/011515Z JUN//

C/2747N/17416W//

R/0//

[FR Doc. E8-15096 Filed 7-3-08; 8:45 am]

BILLING CODE 3510-NK-P